FEDERAL ACCOUNTING STANDARDS ADVISORY BOARD

Staff Implementation Guidance

AGENCY: Federal Accounting Standards Advisory Board.

ACTION: Notice of Statement of Federal Financial Accounting Standards Advisory Board Staff Implementation Guidance 31.1: Guidance for Implementation of Statement of Federal Financial Accounting Standards 31, Accounting for Fiduciary Activities.

SUMMARY: Board Action: Pursuant to the Federal Advisory Committee Act (Pub. L. 92-463), as amended, section 10(a)(2), and the FASAB Rules Of Procedure, as amended in April, 2004, notice is hereby given that the Federal Financial Accounting Standards Advisory Board (FASAB) staff has issued Staff Implementation Guidance (SIG) 31.1: Guidance for Implementation of Statement of Federal Financial Accounting Standards 31, Accounting for Fiduciary Activities.

The SIG will be available at http://www.fasab.gov/codifica.html.

FOR FURTHER INFORMATION CONTACT: Wendy Payne, Executive Director, 441 G St., NW., Mail Stop 6K17V, Washington, DC 20548, or call (202) 512-7350.

Authority: Federal Advisory Committee Act. Pub. L. No. 92463.

Dated: March 19, 2009.
Charles Jackson,
Federal Register Liaison.

[FR Doc. E9-6389 Filed 3-26-09; 8:45 am]

BILLING CODE 1610-01-M